FEDERAL MARITIME COMMISSION

Ocean Transportation Intermediary License Terminations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

LICENSE NUMBER: 4508F.

NAME: Chippeys Enterprises, Inc.

ADDRESS: 744 NW 107th Street, Miami, FL 33168.

DATE REVOKED: July 19, 2000.

REASON: Failed to maintain a valid bond.

LICENSE NUMBER: 14095N.

NAME: Consolidated Express Co., Ltd.

ADDRESS: 11222 La Cienega Blvd., #168, Inglewood, CA 90304

DATE REVOKED: July 12, 2000.

REASON: Failed to maintain a valid bond.

LICENSE NUMBER: 7993N.

NAME: Diversified Freight Container Line, Inc.

ADDRESS: 955 Dillon Drive, Wood Dale, IL 60191.

DATE REVOKED: July 26, 2000.

REASON: Failed to maintain a valid bond.

LICENSE NUMBER: 14652N.

NAME: East Indies America Line, Inc. d/b/a East Indies Australia Line.

ADDRESS: 11042 SR 525, Suite 123-503, Clinton, WA 98236.

DATE REVOKED: July 13, 2000.

REASON: Failed to maintain a valid bond.

LICENSE NUMBER: 1227N.

NAME: Fast Shipping Co., d/b/a Logitrade and Asiapac d/b/a DG Lines

ADDRESS: 201 Servilla Avenue, Suite 306, Coral Gables, FL 33134.

DATE REVOKED: August 13, 2000.

REASON: Failed to maintain a valid bond.

LICENSE NUMBER: 4532F.

NAME: Florida International Forwarders, Inc.

ADDRESS: 10302 NW South River Drive, Bay #18, Miami, FL 33178.

REVOKED: July 16, 2000.

REASON: Failed to maintain a valid bond.

LICENSE NUMBER: 4518F.

NAME: Freight Connection Incorporated.

ADDRESS: 324 Garden Road, Springfield, PA 19064.

DATE REVOKED: July 15, 2000.

REASON: Failed to maintain a valid bond.

LICENSE NUMBER: 3281F.

NAME: International Forwarding Services, Inc.

ADDRESS: 6521-31 N.W. 87th Avenue, Miami, FL 33166

DATE TERMINATED: June 27, 2000.

REASON: Surrendered license voluntarily.

LICENSE NUMBER: 4539F.

NAME: Kenneth Clark Company, Inc.

ADDRESS: P.O. Box 9145, Baltimore, MD 21222.

DATE REVOKED: July 9, 2000.

REASON: Failed to maintain a valid bond.

LICENSE NUMBER: 16074N.

NAME: Madison Transport, Inc.

ADDRESS: 2088 Main Street, Suite D, Madison, MS 39110

DATE REVOKED: August 10, 2000.

REASON: Failed to maintain a valid bond.

LICENSE NUMBER: 15136N.

NAME: Maritime Brokers Inc.

ADDRESS: 1680 N.W. 95th Avenue, Miami, FL 33172.

DATE REVOKED: February 27, 2000.

REASON: Failed to maintain a valid bond.

LICENSE NUMBER: 14334N.

NAME: Mercantile Logistics Inc.

ADDRESS: Giralda Farms Madison Avenue, P.O. Box 885, Madison, NJ 07940-0885

DATE REVOKED: August 2, 2000.

REASON: Failed to maintain a valid bond.

LICENSE NUMBER: 14237NF.

NAME: Mondo Max Inc.

ADDRESS: 1107 East Chapman Avenue, Suite 201, Orange, CA 95866.

DATE REVOKED: July 26, 2000.

REASON: Failed to maintain a valid bond.

LICENSE NUMBER: 16737F.

NAME: P-Serv Technologies, Inc.

ADDRESS: 4457 Willow Road, Suite 100, Pleasanton, CA 94588

DATE TEMINATED: August 14, 2000.

REASON: Surrendered license voluntarily.

LICENSE NUMBER: 14345N.

NAME: Pyramid Ocean Carriers, Inc.

ADDRESS: 15311 Vantage Parkway West, Suite 100, Houston, TX 77032.

DATE REVOKED: July 15, 2000.

REASON: Failed to maintain a valid bond.

LICENSE NUMBER: 15318N.

NAME: Redwood Systems, Inc.

ADDRESS: 175 Linfield Drive, Menlo Park, CA 94025.

DATE REVOKED: July 15, 2000.

REASON: Failed to maintain a valid bond.

LICENSE NUMBER: 3171.

NAME: RSB Logistic Services Inc.

ADDRESS: 219 Cardinal Crescent, Saskatoon, Canada S7L-7K8.

DATE REVOKED: May 18, 2000.

REASON: Failed to maintain a valid bond.

LICENSE NUMBER: 3071F.

NAME: Saga Transport (U.S.A.) Inc.

ADDRESS: 5306 Clinton Drive, Houston, TX 77020.

DATE TEMINATED: July 18, 2000.

REASON: Surrendered license voluntarily.

LICENSE NUMBER: 16091N.

NAME: Salem Logistics Services, Inc.

ADDRESS: 1 Port Center, 35 West Broadway, Salem, NJ 08079-1048.

DATE REVOKED: July 20, 2000.

REASON: Failed to maintain a valid bond.

LICENSE NUMBER: 14561N.

NAME: Thomas Cheong d/b/a Tower Trans International.

ADDRESS: 17204 S. Figueroa Street, Gardena, CA 90248.

DATE REVOKED: July 19, 2000.

REASON: Failed to maintain a valid bond.

LICENSE NUMBER: 16270N.

NAME: Trans Service Line (USA), Inc.

ADDRESS: 50 Broadway, Suite 1603, New York, NY 10004

DATE REVOKED: July 12, 2000.

REASON: Failed to maintain a valid bond.

LICENSE NUMBER: 6272N.

NAME: Weber International Freight Inc.

ADDRESS: 10 Milford Lane, Melville, NY 11747.

DATE REVOKED: July 20, 2000.

REASON: Failed to maintain a valid bond.

LICENSE NUMBER: 10338N.

NAME: Zap Cargo Services, Inc.

ADDRESS: 8425 NW 29th Street, Miami, FL 33122.

DATE REVOKED: July 19, 2000.

REASON: Failed to maintain a valid bond.

Sandra L. Kusumoto,
Director, Bureau of Consumer Complaints and Licensing.

[FR Doc. 00-24190 Filed 9-19-00; 8:45 am]

BILLING CODE 6730-01-P